DEPARTMENT OF HOMELAND SECURITY

Coast Guard

[Docket Number USCG-2023-0297]

Area Maritime Security Advisory Committee (AMSC) Sector Puget Sound

AGENCY: Coast Guard, DHS.

ACTION: Solicitation for membership.

SUMMARY: The Coast Guard requests individuals interested in serving on the Area Maritime Security Advisory Committee (AMSC), Sector Puget Sound submit their applications for membership to the U.S. Coast Guard Captain of the Port Sector Puget Sound (COTP). The Advisory Committee assists the COTP as the Federal Maritime Security Coordinator, Sector Puget Sound, in developing, reviewing, and updating the Area Maritime Security Plan for their area of responsibility.

DATES: Requests for membership should reach the U.S. Coast Guard COTP Sector Puget Sound by December 21st, 2023.

ADDRESSES: Applications for membership should be submitted to the COTP at the following address: Attn: Emergency Management Force Readiness Department c/o Nicole Metzke, U.S. Coast Guard Sector Puget Sound, 1519 Alaskan Way S, Building 4, Seattle, WA 98134.

FOR FURTHER INFORMATION CONTACT: For questions about submitting an application, or about the Puget Sound AMSC in general, contact Ms. Nicole Metzke, (206) 217-6694, nicole.l.metzke2@uscg.mil.

SUPPLEMENTARY INFORMATION:

I. Basis and Purpose

Section 102 of the Maritime Transportation Security Act (MTSA) of 2002 (Pub. L. 107-295, 116 Stat. 2064) added section 70112 of Title 46 of the U.S. Code and authorized the Secretary of the Department in which the Coast Guard is operating to establish Area Maritime Security Advisory Committees for any port area of the United States. (See 33 U.S.C. 1226; 46 U.S.C. 70112; 33 CFR 1.05-1, 6.01; DHS Delegation No. 00170.1(II)(71), Revision No. 01.3. The Puget Sound AMSC Advisory Committee shall assist the Federal Maritime Security Coordinator in the development, review, update, and exercising of the Area Maritime Security Plan for their area of responsibility. Such matters may include, but are not limited to, the following:

(1) Identifying critical port infrastructure and operations; Identifying risks (threats, vulnerabilities, and consequences).

(2) Determining mitigation strategies and implementation methods.

(3) Developing strategies to facilitate the recovery of the MTS after a Transportation Security Incident.

(4) Developing and describing the process to continually evaluate overall port security by considering consequences and vulnerabilities, how they may change over time, and what additional mitigation strategies can be applied.

(5) Providing advice to and assisting the Federal Maritime Security Coordinator in developing and maintaining the Area Maritime Security Plan.

(6) Working together with other AMSC Federal Agency Observers and Other Agency Participants, as well as maritime community members and port security professionals to improve the overall maritime security of the greater Puget Sound area.

II. AMSC Membership

The Puget Sound AMSC Advisory Committee has approximately 15 vacancies for appointed members. We are seeking to fill appointed member vacancies with this solicitation. Applicants may be required to pass an appropriate security background check prior to appointment to the committee. Applicants must register with and remain active as a Coast Guard Homeport user if appointed. Terms of office will be for five years; however, a member is eligible to serve additional terms of office. Members should have at least five years of experience related to maritime or port security operations. Members will not receive any salary or other compensation for their service on the Puget Sound AMSC Advisory Committee.

In accordance with 33 CFR 103, members may be selected from Federal, Territorial, or Tribal governments; State government and political subdivisions of the State; local public safety, crisis management, and emergency response agencies; law enforcement and security organizations; maritime industry, including labor; other port partners having a special competence in maritime security; and port partners affected by security practices and policies.

The Coast Guard does not discriminate in selecting committee members on the basis of race, color, religion, sex, national origin, political affiliation, sexual orientation, gender identity, marital status, disability, genetic information, age, membership in an employee organization, or any other non-merit factor. The Coast Guard strives to achieve a widely diverse candidate pool for all its recruitment actions.

III. Request for Applications

Those seeking membership are not required to submit formal applications to the local COTP. However, because we do have an obligation to ensure that a specific number of members have the prerequisite maritime security experience, we encourage the submission of resumes highlighting experience in the maritime and security industries.

Dated: November 21, 2023.
Mark A. McDonnell,
Captain, U.S. Coast Guard, Captain of the Port/Federal Maritime Security Coordinator Puget Sound.

[FR Doc. 2023-26153 Filed 11-27-23; 8:45 am]

BILLING CODE 9110-04-P